Memorandum of December 8, 2004

Delegation of Certain Reporting Authority

Memorandum for the Chairperson of the National Endowment for the Humanities

By the authority vested in me as President by the Constitution and the laws of the United States, including section 301 of title 3, United States Code, I hereby delegate to you the functions conferred upon the President in the National Foundation on the Arts and Humanities Act of 1965, as amended (20 U.S.C. 959(d)) to provide the specified report relating to the National Endowment for the Humanities to the Congress.

You are authorized and directed to publish this memorandum in the Federal Register.

B

THE WHITE HOUSE,

Washington, December 8, 2004.

[FR Doc. 04-27468

Filed 12-13-04; 8:45 am]

Billing code 3195-01-P